DEPARTMENT OF EDUCATION

[Docket No.: ED-2024-SCC-0128]

Agency Information Collection Activities; Submission to the Office of Management and Budget for Review and Approval; Comment Request; Mandatory Civil Rights Data Collection

AGENCY: Office for Civil Rights (OCR), Department of Education (ED).

ACTION: Notice.

SUMMARY: In accordance with the Paperwork Reduction Act (PRA) of 1995, the Department is proposing a revision of a currently approved information collection request (ICR).

DATES: Interested persons are invited to submit comments on or before February 18, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Sala Green at Sala.Green@ed.gov, (202) 900-8558.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Mandatory Civil Rights Data Collection.

OMB Control Number: 1870-0504.

Type of Review: A revision of an existing information collection request.

Respondents/Affected Public: State, Local, and Tribal Governments.

Total Estimated Number of Annual Responses: 17,717.

Total Estimated Number of Annual Burden Hours: 2,378,410.

Abstract: The collection, use, and reporting of education data is an integral component of the mission of the U.S. Department of Education (Department). The Department has collected civil rights data about the nation's public schools via the Civil Rights Data Collection (CRDC) since 1968. As with previous CRDC collections, the purpose of the 2025-26 and 2027-28 CRDCs is to obtain vital data related to the civil rights laws' requirement that public local educational agencies (LEA) and elementary and secondary schools provide equal educational opportunity. The Department has analyzed the uses of many data elements collected in the 2020-21 CRDC and sought advice from experts across the Department to refine, improve, and where appropriate, add or remove data elements from the collection. CRDC data definitions and metrics are consistent with other mandatory collections across the Department wherever possible. The Department seeks the Office of Management and Budget's approval under the Paperwork Reduction Act to collect from LEAs the elementary and secondary education data described in the sections of Attachment A. The Department requests that LEAs and other stakeholders review and comment on the proposed changes (detailed in Supporting Statement A, Attachments A-1, A-2, A-3, and A-4, and Attachment B).

Dated: January 13, 2025.
Stephanie Valentine,
PRA Coordinator, Strategic Collections and Clearance, Governance and Strategy Division, Office of Chief Data Officer, Office of Planning, Evaluation and Policy Development.

[FR Doc. 2025-01058 Filed 1-15-25; 8:45 am]

BILLING CODE 4000-01-P